NUCLEAR REGULATORY COMMISSION

[NRC-2020-0171]

Setpoints for Safety-Related Instrumentation

AGENCY: Nuclear Regulatory Commission.

ACTION: Draft regulatory guide; request for comment.

SUMMARY: The U.S. Nuclear Regulatory Commission (NRC) is issuing for public comment draft regulatory guide (DG), DG-1363, “Setpoints for Safety-Related Instrumentation.” This DG is proposed Revision 4 of Regulatory Guide (RG) 1.105. The proposed revision describes an approach that is acceptable to the staff of the NRC to meet regulatory requirements ensuring that setpoints for safety related instrumentation are established and maintained within the technical specification limits. This proposed guide has been revised to incorporate additional information regarding American National Standards Institute (ANSI)/International Society of Automation (ISA) Standard 67.04.01-2018, “Setpoints for Nuclear Safety Related Instrumentation,” since revision 3 of RG 1.105 was issued.

DATES: Submit comments by September 14, 2020. Comments received after this date will be considered if it is practical to do so, but the NRC is able to ensure consideration only for comments received on or before this date. This public review and comment period is 30 days in duration, although the public review and comment period for draft RGs is usually 60 days. The shortened comment period is provided because the NRC has previously interacted with stakeholders on related industry and NRC guidance and the proposed revision endorses ANSI/ISA 67.04.01-2018 without any exceptions or clarifications. As a result, the NRC does not anticipate significant public comment. Although a time limit is given, comments and suggestions in connection with items for inclusion in guides currently being developed or improvements in all published guides are encouraged at any time.

ADDRESSES: You may submit comments by any of the following methods:

• Federal Rulemaking website: Go to https://www.regulations.gov and search for Docket ID NRC-2020-0171. Address questions about NRC docket IDs in Regulations.gov to Jennifer Borges; telephone: 301-287-9221; email: Jennifer.Borges@nrc.gov. For technical questions, contact the individuals listed in the FOR FURTHER INFORMATION CONTACT section of this document.

• Mail comments to: Office of Administration, Mail Stop: TWFN-7A06, U.S. Nuclear Regulatory Commission, Washington, DC 20555-0001. ATTN: Program Management, Announcements and Editing Staff.

For additional direction on obtaining information and submitting comments, see “Obtaining Information and Submitting Comments” in the SUPPLEMENTARY INFORMATION section of this document.

FOR FURTHER INFORMATION CONTACT: Dawnmathews Kalathiveettil, Office of Nuclear Reactor Regulation, telephone: 301-415-5905, email: Dawnmathews.Kalathiveettil@nrc.gov, and Michael Eudy, Office of Nuclear Regulatory Research, telephone: 301-415-3104, email: Michael.Eudy@nrc.gov. Both are staff of the U.S. Nuclear Regulatory Commission, Washington, DC 20555-0001.

SUPPLEMENTARY INFORMATION:

I. Obtaining Information and Submitting Comments

A. Obtaining Information

Please refer to Docket ID NRC-2020-0171 when contacting the NRC about the availability of information for this action. You may obtain publicly-available information related to this action by any of the following methods:

• Federal Rulemaking Website: Go to https://www.regulations.gov and search for Docket ID NRC-2020-0171.

• NRC's Agencywide Documents Access and Management System (ADAMS): You may access publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. DG-1363 is available in ADAMS under Accession No. ML20055G823 and the regulatory analysis for DG-1363 is available in ADAMS under Accession No. ML20055G824.

B. Submitting Comments

Please include Docket ID NRC-2020-0171 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a draft guide in the NRC's “Regulatory Guide” series. This series was developed to describe methods that are acceptable to the NRC staff for implementing specific parts of the agency's regulations, to explain techniques that the staff uses in evaluating specific issues or postulated events, and to describe information that the staff needs in its review of applications for permits and licenses.

The DG, titled “Setpoints for Safety-Related Instrumentation,” is temporarily identified by its task number, DG-1363 (ADAMS Accession No. ML20055G823). The draft guide is proposed Revision 4 of Regulatory Guide 1.105. This revision of the guide (Revision 4) endorses ANSI/ISA Standard 67.04.01-2018 as a method acceptable to the NRC staff for satisfying the NRC's regulations for ensuring that: (a) Setpoints for safety-related instrumentation are established to protect plant safety and analytical limits, and (b) the maintenance of instrument channels implementing these setpoints ensures they are functioning as required, consistent with the plant technical specifications. This DG applies to licensees and applicants subject to part 50 of title 10 of the Code of Federal Regulations (10 CFR), “Domestic Licensing of Production and Utilization Facilities,” and 10 CFR part 52, “Licenses, Certifications, and Approvals for Nuclear Power Plants.”

The previous revision (Revision 3) of this RG endorsed ISA S67.04-1994, “Setpoints for Nuclear Safety-Related Instrumentation,” with several clarifications and exceptions. In July 2014, the NRC staff issued DG-1141, “Setpoints for Safety Related Instrumentation” (ADAMS Accession No. ML081630179), for public comment (79 FR 40163). This DG evaluated the 2006 revision of the standard ANSI/ISA 67.04.01, “Setpoints for Safety-Related Instrumentation.” DG-1141 described several concerns with the 2006 revision of the standard. These concerns included the need for additional definitions, analytical limit avoidance probability, use of the technical specification allowable value as a metric for determining instrument channel functionality and operability, and what to consider as an appropriate statistical confidence level. The ANSI/ISA S67.04 Standards Committee addressed these NRC staff concerns, as well as comments provided by industry stakeholders, and issued a revision to the ANSI/ISA standard in December 2018. The NRC staff elected not to finalize DG-1141 as a revision to RG 1.105 and chose instead to evaluate the 2018 ANSI/ISA standard revision for endorsement and issue DG-1363 as a replacement for DG-1141. The staff notes that DG-1363 considers and addresses technical issues and public comments related to the issuance of DG-1141.

The staff is also issuing for public comment a draft regulatory analysis (ADAMS Accession No. ML20055G824). The staff develops a regulatory analysis to assess the value of issuing or revising a regulatory guide as well as alternative courses of action.

III. Backfitting, Forward Fitting, and Issue Finality

DG-1363, if finalized, would endorse ANSI/ISA Standard 67.04.01-2018. Issuance of DG-1363, if finalized, would not constitute backfitting as defined in 10 CFR 50.109, “Backfitting,” and as described in NRC Management Directive (MD) 8.4, “Management of Backfitting, Forward Fitting, Issue Finality, and Information Requests”; constitute forward fitting as that term is defined and described in MD 8.4; or affect the issue finality of any approval issued under 10 CFR part 52. As explained in DG-1363, applicants and licensees would not be required to comply with the positions set forth in DG-1363.

Dated: August 10, 2020.
For the Nuclear Regulatory Commission.
Meraj Rahimi,
Acting Chief, Regulatory Guidance and Generic Issues Branch, Division of Engineering, Office of Nuclear Regulatory Research.

[FR Doc. 2020-17763 Filed 8-13-20; 8:45 am]

BILLING CODE 7590-01-P